DEPARTMENT OF TRANSPORTATION

National Highway Traffic Safety Administration

[U.S. DOT Docket Number NHTSA-2006-26251]

Reports, Forms and Recordkeeping Requirements

AGENCY: National Highway Traffic Safety Administration (NHTSA), DOT.

ACTION: 60-day Notice—Request for public comment on proposed collection of information.

SUMMARY: Before a Federal agency can collect certain information from the public, it must receive approval from the Office of Management and Budget (OMB). Under procedures established by the Paperwork Reduction Act of 1995 (PRA), before seeking OMB approval, Federal agencies must solicit public comment on proposed collections of information. In this case, the information collection consists of a load carrying capacity label applied to all motor homes and recreation vehicle (RV) trailers and a load carrying capacity modification label which corrects original load carrying capacity information on all RVs and light vehicles when significant additional weight is added between final vehicle certification and first retail sale. The load carrying capacity modification label is an alternative to current methods of information correction which requires the original label to be replaced. A PRA 60-day notice was included with the published notice of proposed rulemaking (NPRM) on October 31, 2005 (70 FR 51707), however, since the original notice was a year old and the PRA burden information has been updated, NHTSA decided to publish a second 60-day notice. This notice is related only to obtaining OMB information collection approval under the PRA and is not part of or a substitute for the final rule amending FMVSS Nos. 110 and 120 by adding load carrying capacity requirements which should be published in the near future.

DATES: Comments must be received on or before February 5, 2007.

ADDRESSES: Comments may be submitted in writing to: Docket Management, Room PL-401, 400 Seventh Street, SW., Washington, DC, 20590. Alternatively, comments may be submitted electronically by logging onto the Docket Management System. The Web site can be accessed at http://dms.dot.gov. Click on “Help” to view instructions on how to make an electronic submission. Regardless of how comments are submitted, the docket number of this document must be mentioned. The Docket Management Office hours are from 10 a.m. to 5 p.m., Monday through Friday except Federal holidays and may be contacted by calling 202-366-9324.

FOR FURTHER INFORMATION CONTACT: William D. Evans, NHTSA, NVS-123, Room 5320i, 400 Seventh Street, SW., Washington, DC, 20590. Mr. Evans may also be reached by calling 202-366-2272.

SUPPLEMENTARY INFORMATION: Under the Paperwork Reduction Act of 1995, before an agency submits a collection of information to OMB for approval, it must first publish a document in the Federal Register providing a 60-day comment period and otherwise consult with members of the public and affected agencies concerning each proposed collection of information. The OMB has promulgated regulations describing what must be included in such a document. Under OMB's regulation (5 CFR 1320.8(d)), an agency must ask for public comment on the following:

(i) Whether the proposed collection of information will have practical utility;

(ii) The accuracy of the agency's estimate of the burden of the proposed collection of information, including the validity of the methodology and assumptions used;

(iii) How to enhance the quality, utility, and clarity of the information to be collected;

(iv) How to minimize the burden of the collection of information on those who are to respond, including the use of appropriate automated, electronic, mechanical or other technological collection techniques or other forms of information technology.

In compliance with these requirements, NHTSA asks for public comments on the following proposed collection of information for which the agency is seeking OMB approval.

Title: Load Carrying Capacity Label for Motor Homes and RV Trailers.

OMB Control Number: New.

Affected Public: Manufacturers and Dealers of Motor Homes and RV Trailers.

Form Number: No standard form will be used in this collection.

Abstract: Information collection under this proposal consists of a load carrying capacity label applied to all motor homes and recreation vehicle (RV) trailers. The information collection also involves a load carrying capacity modification label which corrects original load carrying capacity information on all RVs and light vehicles when significant additional weight is added between final vehicle certification and first retail sale. The load carrying capacity modification label is a voluntary alternative to current requirements which states that the original label or placard must be replaced when additional weight is added. A PRA 60-day notice was included with the published NPRM on August 31, 2005 (70 FR 51707), however, since the original notice was a year old and the PRA burden information has been updated, NHTSA decided to publish a second 60-day notice. This notice is related only to obtaining OMB information collection approval under the PRA and is not part of or a substitute for the final rule amending FMVSS Nos. 110 and 120 by adding load carrying capacity requirements which should be published in the near future.

Our estimates of the burden that this rulemaking imparts on all motor home and RV trailer manufacturers and manufacturers of light vehicles other than motor homes are given below. There is no burden to the general public. RV estimates are based on the fact that approximately 95% of all RV manufacturers currently belong to RVIA and already voluntarily apply load carrying capacity labels to the vehicles they produce. When this proposal becomes a final rule and the final rule becomes effective, it is predicted that these 95% of RVs will replace the current voluntary label with the NHTSA label at no additional cost. Therefore, any additional cost for information collection imparted by this final rule is a result of the remaining 5% of RV manufacturers to apply load carrying capacity labels and the cost to RV dealers/service facilities that choose to apply the load carrying capacity modification label. The cost to manufacturers of light vehicles other than RVs is minimal as most vehicles will not exceed a predetermined threshold for compliance that dealers/service facilities will not be required to update load carrying capacity information. The additional cost for information collection to light vehicle manufacturers other than RV manufacturers result from those who choose to correct load carrying capacity information by applying the load carrying capacity modification label. The label is not mandatory; it is simply an alternative to correcting load carrying capacity information by replacing or updating the original tire placard/label when the added weight threshold is exceeded.

The following are the cost and hour burden estimates resulting from the proposed load carrying capacity information requirements. Numbers are based on 2005 estimates.

RV manufacturers and manufacturers of light vehicles other than RVs already have the following knowledge, information and resources and therefore these items will not impose any additional cost and/or hour burden.

Vehicle gross vehicle weight rating (GVWR).

Means to print or procure labels.

Scale system for weighing vehicles.

Estimated annual hour burden to the 5% of RV manufacturers that are not RVIA members to weigh an RV in order to determine unloaded vehicle weight (UVW):

Estimated labor hours to weigh an RV = .16 hours/RV.

Approximately 419,500 RVs shipped in 2005.

It is estimated that 5%, or 20,975 RVs/year, currently do not voluntarily display CCC information, as their manufacturers are not members of RVIA.

20,975 RVs/year × .16 hours/RV = 3,356 hours/year.

Estimated annual cost to the 5% of RV manufacturers that are not RVIA members to procure or produce motor home load carrying capacity labels and RV trailer cargo carrying capacity labels:

Estimated cost to produce labels = $0.15/RV.

Approximately 419,500 RVs shipped in 2005.

It is estimated that 5%, or 20,975 RVs/year, currently do not voluntarily display CCC information, as their manufacturers are not members of RVIA.

20,975 RVs/year × $0.15/RV = $3,146/year.

Estimated annual hour burden to the 5% of RV manufacturers that are not RVIA members to install motor home load carrying capacity labels and RV trailer cargo carrying capacity labels:

Estimated labor hours to install labels = .02 hours/RV.

Approximately 419,500 RVs shipped in 2005.

It is estimated that 5%, or 20,975 RVs/year, currently do not voluntarily display CCC information, as their manufacturers are not members of RVIA.

20,975 RVs/year × .02 hours/RV = 420 hours/year.

Estimated annual cost to RV manufacturers to procure or produce the load carrying capacity modification labels when necessary:

Estimated cost to procure or produce labels = $0.05/RV.

Approximately 419,500 RVs shipped in 2005.

An estimated 25%, or 104,875 RVs/year, will receive the CCC modification label.

104,875 RVs/year × $0.05/RV = $5,245/year.

Estimated annual hour burden to RV manufacturers to install the load carrying capacity modification labels when necessary:

Estimated labor hours to install labels = .02 hours/RV.

Approximately 419,500 RVs shipped in 2005.

An estimated 25%, or 104,875 RVs/year, will receive the CCC modification label.

104,875 RVs/year × .02 hours/RV = 2,098 hours/year.

Estimated annual cost to light vehicle manufacturers to procure or produce the load carrying capacity modification labels when necessary:

Estimated cost to procure or produce labels = $0.05/light vehicle.

Approximately 17,000,000 light vehicles shipped in 2005.

An estimated 1%, or 170,000 light vehicles/year, will receive the CCC modification label.

170,000 light vehicles/year × $0.05/light vehicle = $8,500/year.

Estimated annual hour burden to light vehicle manufacturers to insert values and install the load carrying capacity modification labels when necessary/desired:

Estimated labor hours to install labels = .02 hours/light vehicle.

Approximately 17,000,000 light vehicles shipped in 2005.

An estimated 1%, or 170,000 light vehicles/year, will receive the CCC modification label.

170,000 light vehicles/year × .02 hours/light vehicle = 3,400 hours/year.

Total estimated Annual Burden: 9,274 hours.

Number of Respondents: 99.

Comments are invited on: whether the proposed collection of information is necessary for the proper performance of the functions of the Department, including whether the information will have practical utility; the accuracy of the Department's estimate of the burden of the proposed information collection; ways to enhance the quality, utility and clarity of the information to be collected; and ways to minimize the burden of the collection of information on respondents, including the use of automated collection techniques or other forms of information technology.

Issued on: December 1, 2006.
Stephen R. Kratzke,
Associate Administrator for Rulemaking.

[FR Doc. 06-9560 Filed 12-6-06; 8:45 am]

BILLING CODE 4910-59-M